DEPARTMENT OF ENERGY

Federal Energy Regulatory Commission

Combined Notice of Filings # 1

June 16, 2008.

Take notice that the Commission received the following electric corporate filings:

Docket Numbers: EC08-102-000.

Applicants: Dynegy Holdings Inc.; Rolling Hills Generating, LLC; TPF II Rolling Hills, LLC.

Description: Application of Dynegy Holdings, Inc et al. for approval to indirectly transfer to buyers of all ownership interest in Rolling Hills.

Filed Date: 06/11/2008.

Accession Number: 20080613-0022.

Comment Date: 5 p.m. Eastern Time on Wednesday, July 02, 2008.

Take notice that the Commission received the following electric rate filings:

Docket Numbers: ER01-48-010.

Applicants: Powerex Corp.

Description: Powerex Corp submits Substitute Original Sheet 3 to Third Revised Rate Schedule 1.

Filed Date: 06/12/2008.

Accession Number: 20080613-0056.

Comment Date: 5 p.m. Eastern Time on Thursday, July 03, 2008.

Docket Numbers: ER01-1527-011; ER01-1529-011.

Applicants: Sierra Pacific Power Company; Nevada Power Company.

Description: Nevada Power Co et al. submits notification of non-material changes in status.

Filed Date: 06/10/2008.

Accession Number: 20080612-0012.

Comment Date: 5 p.m. Eastern Time on Tuesday, July 01, 2008.

Docket Numbers: ER04-268-008; ER06-398-005; ER06-399-005; ER07-157-003; ER98-4159-011.

Applicants: Duquesne Power, LLC; Duquesne Keystone, LLC; Duquesne Conemaugh, LLC; Macquarie Cook Power Inc.; Duquesne Light Company.

Description: Supplement to Updated Triennial Market Power Analysis for Duquesne Light Company, et al.

Filed Date: 06/11/2008.

Accession Number: 20080611-5114.

Comment Date: 5 p.m. Eastern Time on Wednesday, July 02, 2008.

Docket Numbers: ER06-739-012; ER06-738-012; ER03-983-010; ER07-501-008; ER02-537-014; ER07-758-006; ER08-649-003.

Applicants: East Coast Power Linden Holding, LLC; Cogen Technologies Linden Venture, L.P.; Fox Energy Company LLC; Birchwood Power Partners, L.P.; Shady Hills Power Company, L.L.C.; Inland Empire Energy Center, L.L.C.

Description: Notice of Non-Material Change in Status of the GE Companies per Order Nos. 652, and 697.

Filed Date: 06/11/2008.

Accession Number: 20080611-5113.

Comment Date: 5 p.m. Eastern Time on Wednesday, July 02, 2008.

Docket Numbers: ER06-864-010; ER07-1356-002; ER07-1112-001; ER07-1113-001; ER07-1115-001; ER07-1116-001; ER07-1117-001; ER07-1358-002; ER07-1118-001; ER07-1119-001; ER07-1120-001; ER07-1122-001; ER06-1543-007; ER00-2885-017; ER01-2765-016; ER08-148-001; ER05-1232-009; ER02-1582-014; ER02-1785-015; ER02-2102-016; ER03-1283-011.

Applicants: Bear Energy LP; BE Alabama LLC; BE Allegheny LLC; BE CA LLC; BE Colquitt LLC; BE Ironwood LLC; BE KJ LLC; BE Rayle LLC; BE Red Oak LLC; BE Satilla LLC; BE Walton LLC; BE Louisiana LLC; BRUSH COGENERATION PARTNERS; Cedar Brakes I LLC; Cedar Brakes II, LLC; JPMorgan Ventures Energy Corporation; Mohawk River Funding IV, L.L.C.; Thermo Cogeneration Partnership L.P.; Utility Contract Funding, L.L.C.; Vineland Energy, LLC; CENTRAL POWER & LIME INC.

Description: Notice on Non-Material Change in Status re Bear Energy LP et al.

Filed Date: 06/13/2008.

Accession Number: 20080613-5005.

Comment Date: 5 p.m. Eastern Time on Monday, July 07, 2008.

Docket Numbers: ER06-1409-001; ER06-1408-001; ER05-1511-003; ER06-1407-001; ER06-1413-001; ER08-577-002; ER08-578-002; ER08-579-002.

Applicants: Noble Altona Windpark, LLC; Noble Ellenberg Windpark, LLC; Noble Thumb Windpark I, LLC; Noble Bliss Windpark, LLC; Noble Clinton Windpark I, LLC; Noble Bellmont Windpark, LLC; Noble Chateaugay Windpark, LLC; Noble Wethersfield Windpark, LLC.

Description: Noble Environmental LLC notifies FERC of changes in certain characteristics upon which the Commission may have relied in granting market-based rate authority to the Noble Project Companies.

Filed Date: 06/12/2008.

Accession Number: 20080613-0045.

Comment Date: 5 p.m. Eastern Time on Thursday, July 03, 2008.

Docket Numbers: ER07-1332-004.

Applicants: Smoky Hills Wind Farm, LLC.

Description: Notice of Change in Status re Smoky Hills Wind Farm, LLC.

Filed Date: 06/13/2008.

Accession Number: 20080613-5010.

Comment Date: 5 p.m. Eastern Time on Monday, July 07, 2008.

Docket Numbers: ER07-357-002.

Applicants: Fenton Power Partners I, LLC.

Description: Supplemental to Notice of Change in Status of Fenton Power Partners I, LLC.

Filed Date: 06/13/2008.

Accession Number: 20080613-5063.

Comment Date: 5 p.m. Eastern Time on Monday, June 23, 2008.

Docket Numbers: ER08-777-001.

Applicants: Westar Energy, Inc.

Description: Westar Energy, Inc et al. submits Substitute 3rd revised Sheet 172 et al. to FERC Electric Tariff, Second Revised Volume 5 under ER08-777.

Filed Date: 06/13/2008.

Accession Number: 20080616-0085.

Comment Date: 5 p.m. Eastern Time on Monday, July 07, 2008.

Docket Numbers: ER08-796-001.

Applicants: ITC Midwest LLC.

Description: ITC Midwest LLC submits responses to FERC's letter dated 5/29/08.

Filed Date: 06/11/2008.

Accession Number: 20080612-0204.

Comment Date: 5 p.m. Eastern Time on Wednesday, July 02, 2008.

Docket Numbers: ER08-889-001.

Applicants: Carolina Power & Light Company.

Description: Progress Energy Carolinas, Inc submits supplemental information requested by the FERC Staff in support of original 4/30/08 filing under ER08-889.

Filed Date: 06/13/2008.

Accession Number: 20080616-0072.

Comment Date: 5 p.m. Eastern Time on Monday, June 23, 2008.

Docket Numbers: ER08-1098-001; ER08-1099-001; ER08-1100-001.

Applicants: National Grid Generation LLC; National Grid-Port Jefferson Energy Cent; National Grid-Glenwood Energy Center, LLC.

Description: National Grid USA submits Supplements to the Notices of Succession for KeySpan Generation LLC et al. under ER08-1098 et al.

Filed Date: 06/13/2008.

Accession Number: 20080616-0076.

Comment Date: 5 p.m. Eastern Time on Monday, July 07, 2008.

Docket Numbers: ER08-1103-000.

Applicants: American Transmission Systems, Incorporated.

Description: American Transmission Systems Incorporated submits a Construction Agreement dated 5/22/08 with Cleveland Electric Illuminating Company et al.

Filed Date: 06/10/2008.

Accession Number: 20080612-0014.

Comment Date: 5 p.m. Eastern Time on Tuesday, July 01, 2008.

Docket Numbers: ER08-1104-000.

Applicants: Arizona Public Service Company.

Description: Arizona Public Service Co submits proposed revisions to their FERC Electric Tariff, Volume 3.

Filed Date: 06/10/2008.

Accession Number: 20080612-0015.

Comment Date: 5 p.m. Eastern Time on Tuesday, July 01, 2008.

Docket Numbers: ER08-1105-000.

Applicants: TFS Capital LLC.

Description: TFS Capital LLC submits a notice of cancellation of FERC Electric Tariff, Original Volume 1.

Filed Date: 06/12/2008.

Accession Number: 20080613-0046.

Comment Date: 5 p.m. Eastern Time on Thursday, July 03, 2008.

Docket Numbers: ER08-1106-000.

Applicants: MATL LLP.

Description: MATL LLP submits an amendments to Attachment L of their Open Access Transmission Tariff, FERC Electric Tariff, Second Revised Volume 1 to become effective 8/12/08 under ER08-1106.

Filed Date: 06/13/2008.

Accession Number: 20080616-0086.

Comment Date: 5 p.m. Eastern Time on Monday, July 07, 2008.

Docket Numbers: ER08-1107-000.

Applicants: The American Electric Power Service Corp.

Description: American Electric Power submits a second revisions to the Interconnection and Local Delivery Service Agreement 1419 between the Village of Carey and AEP under ER08-1107.

Filed Date: 06/13/2008.

Accession Number: 20080616-0075.

Comment Date: 5 p.m. Eastern Time on Monday, July 07, 2008.

Take notice that the Commission received the following open access transmission tariff filings:

Docket Numbers: OA07-36-002.

Applicants: South Carolina Electric & Gas Company.

Description: Attachment L Compliance Filing of South Carolina Electric & Gas Company.

Filed Date: 06/12/2008.

Accession Number: 20080612-5098.

Comment Date: 5 p.m. Eastern Time on Thursday, July 03, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-14177 Filed 6-23-08; 8:45 am]

BILLING CODE 6717-01-P